DEPARTMENT OF ENERGY

Federal Energy Regulatory Commission

Combined Notice of Filings #1

October 13, 2006.

Take notice that the Commission received the following electric corporate filings:

Docket Numbers: EC07-1-000.

Applicants: Peoples Elwood, LLC; J-Power USA Investment Company, Ltd.

Description: Peoples Elwood, LLC & J-POWER USA Investment Co, Ltd submit a joint application for authorization to transfer membership interest in a public utility.

Filed Date: 10/06/2006.

Accession Number: 20061010-0219.

Comment Date: 5 p.m. Eastern Time on Friday, October 27, 2006.

Docket Numbers: EC07-2-000.

Applicants: KGen Southhaven, LLC; KGen New Albany LLC, BTEC New Albany LLC.

Description: KGen Southaven, LLC, KGen New Albany, LLC et al. submit a joint application for disposition of jurisdictional facilities.

Filed Date: 10/06/2006.

Accession Number: 20061012-0215.

Comment Date: 5 p.m. Eastern Time on Friday, October 27, 2006.

Take notice that the Commission received the following exempt wholesale generator filings:

Docket Numbers: EG07-3-000.

Applicants: Plains End II, LLC.

Description: Plains End II, LLC submits its Notice of Self-Certification of Exempt Wholesale Generator Status.

Filed Date: 10/12/2006.

Accession Number: 20061012-5017.

Comment Date: 5 p.m. Eastern Time on Thursday, November 2, 2006.

Docket Numbers: EG07-4-000.

Applicants: RC Cape May Holdings, LLC.

Description: RC Cape May Holdings LLC submits it's a Notice of Self-Certification of Exemption Wholesale Generator Status.

Filed Date: 10/11/2006.

Accession Number: 20061013-0083.

Comment Date: 5 p.m. Eastern Time on Wednesday, November 1, 2006.

Take notice that the Commission received the following electric rate filings:

Docket Numbers: ER99-845-010.

Applicants: Puget Sound Energy, Inc.

Description: Puget Sound Energy, Inc submits a Notice in Change in Status pursuant to requirements of Order 652.

Filed Date: 10/06/2006.

Accession Number: 20061011-0009.

Comment Date: 5 p.m. Eastern Time on Friday, October 27, 2006.

Docket Numbers: ER00-2885-011; ER01-2765-010; ER02-1582-009; ER02-1785-006; ER02-2102-010; ER06-864-003.

Applicants: Bear Energy LP; Cedar Brakes I, L.L.C.; Cedar Brakes II, L.L.C., Mohawk River Funding IV, L.L.C.; Thermo Cogeneration Partnership L.P., Utility Contract Funding, L.L.C.

Description: Bear Energy, LP et al, submits a notice to FERC that they have entered into two energy management agreements with Project Orange Associates et al. pursuant to Order 652.

Filed Date: 10/11/2006.

Accession Number: 20061013-0074.

Comment Date: 5 p.m. Eastern Time on Wednesday, November 1, 2006.

Docket Numbers: ER01-615-014; ER96-1551-018.

Applicants: Public Service Company of New Mexico.

Description: Public Service Company of New Mexico submits an electric compliance report.

Filed Date: 10/06/2006.

Accession Number: 20061006-5052.

Comment Date: 5 p.m. Eastern Time on Friday, October 27, 2006.

Docket Numbers: ER03-467-001.

Applicants: Gulf States Energy, Inc.

Description: Gulf States Energy Inc submits amended triennial updated market power analysis in compliance with the FERC order.

Filed Date: 10/06/2006.

Accession Number: 20061010-0034.

Comment Date: 5 p.m. Eastern Time on Friday, October 27, 2006.

Docket Numbers: ER03-821-001.

Applicants: One Nation Energy Solutions, LLC.

Description: One Nation Energy Solutions, LLC submits a Triennial Market Power Update.

Filed Date: 10/12/2006.

Accession Number: 20061013-0099.

Comment Date: 5 p.m. Eastern Time on Thursday, November 2, 2006.

Docket Numbers: ER03-888-003; ER06-1503-001; ER06-1504-001.

Applicants: Nordic Marketing of Ohio; Nordic Marketing of Pennsylvania, LLC; Nordic Marketing of Illinois, LLC.

Description: Nordic Marketing of Ohio LLC et al submit rate schedule cancellation sheet (Second Revised Sheet 1 et al.) to supplement their 9/15/06 submission.

Filed Date: 10/06/2006.

Accession Number: 20061011-0010.

Comment Date: 5 p.m. Eastern Time on Friday, October 27, 2006.

Docket Numbers: ER03-891-002.

Applicants: Gulf States Energy Investments L.P.

Description: Gulf States Energy Investments, LP submits amended triennial updated market power analysis in compliances with FERC's Order 652 under ER03-891.

Filed Date: 10/06/2006.

Accession Number: 20061010-0030.

Comment Date: 5 p.m. Eastern Time on Friday, October 27, 2006.

Docket Numbers: ER03-1288-002.

Applicants: Rocky Mountain Energy Center, LLC.

Description: Rocky Mountain Energy Center, LLC submits an Updated Market Analysis in accordance with the Commission's 10/3/03 letter order.

Filed Date: 10/03/2006.

Accession Number: 20061005-0044.

Comment Date: 5 p.m. Eastern Time on Tuesday, October 24, 2006.

Docket Numbers: ER05-636-005.

Applicants: Midwest Independent Transmission System Operator, Inc.

Description: Midwest Independent Transmission System Operator, Inc submits a Compliance Filing of Large Generator Interconnection Agreement among Columbia Community Windpower LLC.

Filed Date: 10/10/2006.

Accession Number: 20061011-0053.

Comment Date: 5 p.m. Eastern Time on Tuesday, October 31, 2006.

Docket Numbers: ER05-662-005.

Applicants: Midwest Independent Transmission System Operator, Inc.

Description: Midwest Independent Transmission System Operator, Inc submits the Large Generator Interconnection Agreement with Darlington Wind Farm, LLC et al.

Filed Date: 10/10/2006.

Accession Number: 20061011-0018.

Comment Date: 5 p.m. Eastern Time on Tuesday, October 31, 2006.

Docket Numbers: ER05-864-004.

Applicants: Midwest Independent Transmission System Operator, Inc.

Description: Midwest Independent Transmission System Operator Inc submits a Large Generator Interconnection Agreement among Forward Energy LLC & American Transmission Co, LLC.

Filed Date: 10/10/2006.

Accession Number: 20061011-0266.

Comment Date: 5 p.m. Eastern Time on Tuesday, October 31, 2006.

Docket Numbers: ER05-1178-005.

Applicants: Gila River Power, L.P.; Union Power Partners, LP.

Description: Gila River Power LP and Union Power Partners LP submits a Notice of Non-Material Change in Status relating to their upstream ownership structure.

Filed Date: 10/05/2006.

Accession Number: 20061010-0211.

Comment Date: 5 p.m. Eastern Time on Thursday, October 26, 2006.

Docket Numbers: ER05-1508-003.

Applicants: Midwest Independent Transmission System Operator, Inc.

Description: Midwest Independent Transmission System Operator, Inc submits an amendment to its 9/8/06 filing of the Large Generator Interconnection Agreement with Power Partners Midwest, LLC et al.

Filed Date: 10/04/2006

Accession Number: 20061006-0005.

Comment Date: 5 p.m. Eastern Time on Wednesday, October 25, 2006.

Docket Numbers: ER06-690-004.

Applicants: Midwest Independent Transmission System Operator, Inc.

Description: Midwest Independent Transmission System Operator, Inc submits proposed revisions to Attachment HH (Dispute Resolution Procedures) of the Open Access Transmission and Energy Markets Tariff.

Filed Date: 10/10/2006.

Accession Number: 20061011-0200.

Comment Date: 5 p.m. Eastern Time on Tuesday, October 31, 2006.

Docket Numbers: ER06-731-003.

Applicants: Midwest Independent Transmission System Operator, Inc.

Description: Midwest Independent Transmission System Operator, Inc submits an amended compliance filing re Broad Constrained Area Mitigation.

Filed Date: 10/11/2006.

Accession Number: 20061013-0055.

Comment Date: 5 p.m. Eastern Time on Wednesday, November 1, 2006.

Docket Numbers: ER06-1001-001.

Applicants: Midwest Independent Transmission System.

Description: Midwest Independent Transmission System Operator, Inc submits a correction to its 10/2/06 filing re: Substitute Third Revised Sheet 969 et al to FERC Electric Tariff, Third Revised Volume 1.

Filed Date: 10/04/2006.

Accession Number: 20061005-0188.

Comment Date: 5 p.m. Eastern Time on Wednesday, October 25, 2006.

Docket Numbers: ER06-1234-002.

Applicants: Southern Company Services, Inc.

Description: Southern Company Services Inc, acting as agent for Alabama Power Co et al submits an interconnection agreement in accordance with FERC's September Order.

Filed Date: 10/10/2006.

Accession Number: 20061011-0198.

Comment Date: 5 p.m. Eastern Time on Tuesday, October 31, 2006.

Docket Numbers: ER06-1295-001.

Applicants: Boston Edison Company.

Description: Boston Edison Company submits a response to 9/26/06 FERC Deficiency Letter of NSTAR Electric & Gas Corp.

Filed Date: 10/05/2006.

Accession Number: 20061005-5031.

Comment Date: 5 p.m. Eastern Time on Thursday, October 26, 2006.

Docket Numbers: ER06-1331-000.

Applicants: CalPeak Power LLC.

Description: CalPeak Power LLC supplements its 8/2/06 application for acceptance of their initial market-based rate tariff etc, to clarify a statement in the application.

Filed Date: 10/04/2006.

Accession Number: 20061006-0001.

Comment Date: 5 p.m. Eastern Time on Wednesday, October 25, 2006.

Docket Numbers: ER06-1422-001.

Applicants: Louisville Gas & Electric Company Kentucky Utilities Company.

Description: Louisville Gas and Electric Co and Kentucky Utilities Co requests that the Commission find that they continue to be authorized to make sales of ARS energy to BREC not-withstanding recent changes to market based rate tariff.

Filed Date: 10/04/2006.

Accession Number: 20061006-0004.

Comment Date: 5 p.m. Eastern Time on Wednesday, October 25, 2006.

Docket Numbers: ER06-1458-002.

Applicants: E. ON U.S., LLC; Louisville Gas and Electric Company; Kentucky Utilities Company.

Description: E.On U.S. LLC on behalf of Louisville Gas, et al submit supplements to its 9/21/06 filing with supporting testimony and data of LG & E Companies et al substitute unexecuted Service Agreement for Integration Transmission Service.

Filed Date: 09/28/2006.

Accession Number: 20061005-0166.

Comment Date: 5 p.m. Eastern Time on Thursday, October 19, 2006.

Docket Numbers: ER06-1502-001.

Applicants: Round Rock Energy LLC.

Description: Round Rock Energy LLC submits amendments to its market based rate, Rate Schedule No. 1.

Filed Date: 10/05/2006.

Accession Number: 20061010-0218.

Comment Date: 5 p.m. Eastern Time on Thursday, October 26, 2006.

Docket Numbers: ER06-1503-001.

Applicants: Nordic Marketing of Ohio, LLC.

Description: Nordic Marketing of Ohio LLC et al submits further information and rate schedule cancellation sheet (Second Revised Sheet 1et al) to supplement their 9/15/06 submission under ER06-1503 et al.

Filed Date: 10/06/2006.

Accession Number: 20061011-0010.

Comment Date: 5 p.m. Eastern Time on Friday, October 27, 2006.

Docket Numbers: ER07-4-001.

Applicants: Southwest Power Pool, Inc.

Description: Southwest Power Pool, Inc supplements its 10/2/06 filing by submitting Exhibit I a redlined version of the Agreement against the 1981 Agreement to comply with Order 614.

Filed Date: 10/10/2006.

Accession Number: 20061011-0017.

Comment Date: 5 p.m. Eastern Time on Tuesday, October 31, 2006.

Docket Numbers: ER07-12-000.

Applicants: Southern California Edison Company.

Description: Southern California Edison Company submits revised rate sheets to the Interconnection Facilities Agreement with NM Mid Valley Genco, LLC.

Filed Date: 10/04/2006.

Accession Number: 20061006-0006.

Comment Date: 5 p.m. Eastern Time on Wednesday, October 25, 2006.

Docket Numbers: ER07-13-000.

Applicants: Dynegy Midwest Generation, Inc.

Description: Dynegy Midwest Generation, Inc submits revisions to its market-based rate tariff that would remove the outdated restriction on sales to Illinois Power Co.

Filed Date: 10/04/2006.

Accession Number: 20061006-0009.

Comment Date: 5 p.m. Eastern Time on Wednesday, October 25, 2006.

Docket Numbers: ER07-14-000.

Applicants: Southwest Power Pool, Inc.

Description: Southwest Power Pool, Inc submits notices of cancellation for Network Operating Agreements and on 10/10/06 submit a supplement to this filing.

Filed Date: 10/04/2006; 10/10/2006.

Accession Number: 20061006-0008; 20061011-0203.

Comment Date: 5 p.m. Eastern Time on Wednesday, October 25, 2006.

Docket Numbers: ER07-15-000.

Applicants: Florida Power Corporation.

Description: Florida Power Corp dba Progress Energy Florida Inc submits a modification of the 10/12/95 Agreement for Sale & Purchase of Capacity & Energy with Seminole Electric Cooperative Inc, First Rev Rate Schedule 176.

Filed Date: 10/06/2006.

Accession Number: 20061010-0213.

Comment Date: 5 p.m. Eastern Time on Friday, October 27, 2006.

Docket Numbers: ER07-17-000.

Applicants: Alloy Power L.L.C.

Description: Alloy Power, LLC submits a Notice of Cancellation and cancellation tariff sheet for the purpose of canceling its Shared Facilities Agreement for service to West Virginia Alloys, Inc etc.

Filed Date: 10/06/2006.

Accession Number: 20061010-0214.

Comment Date: 5 p.m. Eastern Time on Friday, October 27, 2006.

Docket Numbers: ER07-18-000.

Applicants: New York Independent System Operator, Inc.

Description: New York State Electric & Gas Corp submits an Original Service Agreement 921 between NYSEG and Indeck Energy Services of Silver Springs Inc under its OATT.

Filed Date: 10/06/2006.

Accession Number: 20061010-0215.

Comment Date: 5 p.m. Eastern Time on Friday, October 27, 2006.

Docket Numbers: ER07-19-000.

Applicants: PJM Interconnection, LLC.

Description: PJM Interconnection, LLC submits its proposed revisions to its Open Access Transmission Tariff.

Filed Date: 10/06/2006.

Accession Number: 20061011-0012.

Comment Date: 5 p.m. Eastern Time on Friday, October 27, 2006.

Docket Numbers: ER07-20-000.

Applicants: PJM Interconnection, LLC.

Description: PJM Interconnection, LLC submits proposed revisions to its Open Access Transmission Tariff by amending the timing requirement for Short Term Firm Transmission Service.

Filed Date: 10/06/2006.

Accession Number: 20061011-0013.

Comment Date: 5 p.m. Eastern Time on Friday, October 27, 2006.

Docket Numbers: ER07-21-000.

Applicants: PJM Interconnection, LLC.

Description: PJM Interconnection, LLC submits an executed Interconnection service agreement with Camp Grove Wind Farm, LLC and Commonwealth Edison Company.

Filed Date: 10/06/2006.

Accession Number: 20061011-0014.

Comment Date: 5 p.m. Eastern Time on Friday, October 27, 2006.

Docket Numbers: ER07-22-000.

Applicants: Jump Power, LLC.

Description: Jump Power submits a Petition for Acceptance of Initial Tariff, Waivers and Blanket Authority, FERC Electric Tariff, Original Volume 1 etc.

Filed Date: 10/10/2006.

Accession Number: 20061011-0199.

Comment Date: 5 p.m. Eastern Time on Tuesday, October 31, 2006.

Docket Numbers: ER07-23-000.

Applicants: Arizona Public Service Company.

Description: Arizona Public Service Co submits its proposed FERC Electric Tariff, Volume 5 which provides for cost-based sales of capacity and energy with a duration of less than one year.

Filed Date: 10/10/2006.

Accession Number: 20061012-0170.

Comment Date: 5 p.m. Eastern Time on Tuesday, October 31, 2006.

Docket Numbers: ER07-24-000.

Applicants: Southwest Power Pool, Inc.

Description: Southwest Power Pool, Inc submits a Letter Agreement between Southwestern Public Service Co d/b/a Xcel Energy and Lea Power Partners, LLC.

Filed Date: 10/10/2006.

Accession Number: 20061012-0172.

Comment Date: 5 p.m. Eastern Time on Tuesday, October 31, 2006.

Docket Numbers: ER07-25-000.

Applicants: Southwest Power Pool, Inc.

Description: Southwest Power Pool, Inc submits a Letter Agreement between Southwestern Public Service Co dba Xcel Energy and Golden Spread Electric Cooperative, Inc.

Filed Date: 10/10/2006.

Accession Number: 20061012-0171.

Comment Date: 5 p.m. Eastern Time on Tuesday, October 31, 2006.

Docket Numbers: ER07-26-000.

Applicants: AEP Energy Partners, LP.

Description: AEP Energy Partners, LP (AEP) submits its Notice of Succession to reflect a name change on its market-based tariff from CSW Power Marketing Inc to AEP.

Filed Date: 10/11/2006.

Accession Number: 20061012-0174.

Comment Date: 5 p.m. Eastern Time on Wednesday, November 1, 2006.

Docket Numbers: ER07-27-000.

Applicants: Wisconsin Public Power, Inc.

Description: Wisconsin Public Power, Inc submits an Initial Rate Schedule 1 and supporting cost data to establish its annual revenue requirement.

Filed Date: 10/11/2006.

Accession Number: 20061013-0075.

Comment Date: 5 p.m. Eastern Time on Wednesday, November 1, 2006.

Docket Numbers: ER07-28-000.

Applicants: Wisconsin Public Power, Inc.

Description: Wisconsin Public Power, Inc submits its Initial Rate Schedule 2 and supporting cost data to establish its annual revenue requirement.

Filed Date: 10/11/2006.

Accession Number: 20061013-0079.

Comment Date: 5 p.m. Eastern Time on Wednesday, November 1, 2006.

Docket Numbers: ER07-29-000.

Applicants: Wisconsin Public Power, Inc.

Description: Wisconsin Public Power, Inc submits its Initial Rate Schedule 3 and supporting cost data to establish its annual revenue requirement.

Filed Date: 10/11/2006.

Accession Number: 20061013-0078.

Comment Date: 5 p.m. Eastern Time on Wednesday, November 1, 2006.

Docket Numbers: ER07-30-000.

Applicants: RC Cape May Holdings, LLC.

Description: RC Cape May Holdings, LLC submits an application for market based rate authority (Electric Tariff, Original Volume 1), certain waivers and blanket authorizations.

Filed Date: 10/11/2006.

Accession Number: 20061013-0077.

Comment Date: 5 p.m. Eastern Time on Wednesday, November 1, 2006.

Docket Numbers: ER07-31-000.

Applicants: Endeavor Power Partners, LLC.

Description: Endeavor Power Partners, LLC submits an application for market-based rate authority under Section 205 of the Federal Power Act, Request for expedited consideration and for waivers and pre-approvals.

Filed Date: 10/11/2006.

Accession Number: 20061013-0076.

Comment Date: 5 p.m. Eastern Time on Wednesday, November 1, 2006.

Docket Numbers: ER07-33-000.

Applicants: New York Independent System Operator, Inc.

Description: NYISO submits a request for temporary tariff waiver.

Filed Date: 10/06/2006.

Accession Number: 20061013-0082.

Comment Date: 5 p.m. Eastern Time on Friday, October 27, 2006.

Docket Numbers: ER07-34-000.

Applicants: Plains End II, LLC.

Description: Petition of Plains End II, LLC for order accepting market-based rate tariff for filing and granting waivers and blanket approvals and request for expedited action.

Filed Date: 10/12/2006.

Accession Number: 20061013-0081.

Comment Date: 5 p.m. Eastern Time on Thursday, November 2, 2006.

Docket Numbers: ER96-1551-018.

Applicants: Public Service Company of New Mexico.

Description: Public Service Company of New Mexico submits a compliance Electric Refund Report of Public Service Company of New Mexico.

Filed Date: 10/06/2006.

Accession Number: 20061006-5052.

Comment Date: 5 p.m. Eastern Time on Friday, October 27, 2006.

Take notice that the Commission received the following electric securities filings:

Docket Numbers: ES07-1-000.

Applicants: Edison Sault Electric Company.

Description: Edison Sault Electric Co submits an application for authorization to borrow under Section 204 of the Federal Power Act.

Filed Date: 10/10/2006.

Accession Number: 20061012-0099.

Comment Date: 5 p.m. Eastern Time on Tuesday, October 24, 2006.

Take notice that the Commission received the following foreign utility company status filings:

Docket Numbers: FC07-1-000.

Applicants: Uskmouth Power Limited.

Description: Uskmouth Power Limited submits a Notice of Self Certification.

Filed Date: 10/03/2006.

Accession Number: 20061003-5016.

Comment Date: 5 p.m. Eastern Time on Tuesday, October 24, 2006.

Docket Numbers: FC07-2-000.

Applicants: Enel Latin America, LLC.

Description: Enel Latin America, LLC submits a Self-Certification of Foreign Utility Company Status.

Filed Date: 10/06/2006.

Accession Number: 20061006-5064.

Comment Date: 5 p.m. Eastern Time on Friday, October 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Magalie R. Salas,
Secretary.

[FR Doc. E6-17467 Filed 10-18-06; 8:45 am]

BILLING CODE 6717-01-P